DEPARTMENT OF ENERGY

Federal Energy Regulatory Commission

Combined Notice of Filings

Take notice that the Commission has received the following Natural Gas Pipeline Rate and Refund Report filings:

Filings Instituting Proceedings

Docket Numbers: RP12-1093-000.

Applicants: Northern Border Pipeline Company.

Description: Petition of Northern Border Pipeline Company for Approval of Settlement.

Filed Date: 9/27/12.

Accession Number: 20120927-5192.

Comments Due: 5 p.m. ET 10/15/12.

Docket Numbers: RP12-1101-000.

Applicants: Questar Overthrust Pipeline Company.

Description: Request for Waiver of Questar Overthrust Pipeline Company.

Filed Date: 9/27/12.

Accession Number: 20120927-5209.

Comments Due: 5 p.m. ET 10/12/12.

Docket Numbers: RP13-147-000.

Applicants: WestGas InterState, Inc.

Description: 20121009 Compliance Filing 587-V to be effective 12/1/2012.

Filed Date: 10/9/12.

Accession Number: 20121009-5289.

Comments Due: 5 p.m. ET 10/22/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-908-001.

Applicants: TC Offshore LLC.

Description: Compliance to RP12-908 to be effective 11/1/2012.

Filed Date: 10/9/12.

Accession Number: 20121009-5225.

Comments Due: 5 p.m. ET 10/22/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 10, 2012.
Nathaniel J. Davis, Sr.,
Deputy Secretary.

[FR Doc. 2012-25533 Filed 10-16-12; 8:45 am]

BILLING CODE 6717-01-P